DEPARTMENT OF COMMERCE

International Trade Administration

North American Free-Trade Agreement (NAFTA), Article 1904 Binational Panel Reviews

AGENCY: NAFTA Secretariat, United States Section, International Trade Administration, Department of Commerce.

ACTION: Notice of Decision of Panel.

SUMMARY: On April 14, 2010, the binational panel issued its decision in the review of the final results of the 2004/2005 antidumping administrative review made by the International Trade Administration, respecting Stainless Steel Sheet and Strip in Coils from Mexico, NAFTA Secretariat File Number USA-MEX-2007-1904-01. The binational panel affirmed in part and remanded in part the International Trade Administration's determination, with one dissenting opinion. Copies of the panel decision are available from the U.S. Section of the NAFTA Secretariat.

FOR FURTHER INFORMATION CONTACT: Marsha Ann Y. Iyomasa, Acting United States Secretary, NAFTA Secretariat, Suite 2061, 14th and Constitution Avenue, Washington, DC 20230, (202) 482-5438.

SUPPLEMENTARY INFORMATION: Chapter 19 of the North American Free-Trade Agreement (“Agreement”) establishes a mechanism to replace domestic judicial review of final determinations in antidumping and countervailing duty cases involving imports from a NAFTA country with review by independent binational panels. When a Request for Panel Review is filed, a panel is established to act in place of national courts to review expeditiously the final determination to determine whether it conforms with the antidumping or countervailing duty law of the country that made the determination.

Under Article 1904 of the Agreement, which came into force on January 1, 1994, the Government of the United States, the Government of Canada and the Government of Mexico established Rules of Procedure for Article 1904 Binational Panel Reviews (“Rules”). These Rules were published in the Federal Register on February 23, 1994 (59 FR 8686). The panel review in this matter has been conducted in accordance with these Rules.

Panel Decision: The panel affirmed in part and remanded in part the International Trade Administration's determination respecting Stainless Steel Sheet and Strip in Coils from Mexico with one dissenting opinion. The panel remanded on the following issues:

1. On the issue of the permissibility of zeroing, the Panel remands this matter back to Commerce to re-calculate Mexinox's dumping margins without zeroing;

2. On the issue of whether Commerce's adjustments to the U.S. indirect selling expense ratio are not in accordance with law, the Panel remands this matter back to Commerce to re-calculate the indirect selling expense ratio in a manner not inconsistent with the panel's opinion; and

3. Commerce is further directed to issue its Final Re-Determination on Remand within forty-five days from the date of this Panel Decision.

The Department's decision in the final results of the 2004/2005 antidumping review was, in all other respects upheld.

Dated: April 14, 2010.
Marsha Ann Y. Iyomasa,
Acting U.S. Secretary, NAFTA Secretariat.

[FR Doc. 2010-9015 Filed 4-19-10; 8:45 am]

BILLING CODE 3510-GT-P